DEPARTMENT OF COMMERCE

National Oceanic and Atmospheric Administration

RIN 0648-XC397

Fisheries Off West Coast States and in the Western Pacific; Pacific Coast Groundfish Fishery; Application for an Exempted Fishing Permit

AGENCY: National Marine Fisheries Service (NMFS), National Oceanic and Atmospheric Administration (NOAA), Commerce.

ACTION: Notice; receipt of EFP applications; request for comments.

SUMMARY: NMFS announces the receipt of exempted fishing permit (EFP) applications for 2013 and 2014, and is considering issuance of EFPs for vessels participating in the EFP fisheries. The EFPs are necessary to allow activities that are otherwise prohibited by Federal regulations. The EFPs would be effective no earlier than February 11, 2013, and would expire no later than December 31, 2014, but could be terminated earlier under terms and conditions of the EFPs and other applicable laws.

DATES: Comments must be received no later than 5 p.m., local time on February 11, 2013.

ADDRESSES: You may submit comments, identified by RIN 0648-XC397, by any one of the following methods:

• Email: EFPs.2013@noaa.gov.

• Fax: 206-526-6736, Attn: Gretchen Hanshew.

• Mail: William W. Stelle, Regional Administrator, Northwest Region, NMFS, 7600 Sand Point Way NE., Seattle, WA 98115-0070, Attn: Gretchen Hanshew.

FOR FURTHER INFORMATION CONTACT: To view copies of the EFP applications, visit the Pacific Council Web site at www.pcouncil.org and browse the June 2012 Briefing Book; or contact Gretchen Hanshew (Northwest Region, NMFS), phone: 206-526-6147, fax: 206-526-6736.

SUPPLEMENTARY INFORMATION: This action is authorized by the Pacific Coast Groundfish Fishery Management Plan (FMP) and the Magnuson-Stevens Fishery Conservation and Management Act provisions at 50 CFR 600.745, which states that EFPs may be used to authorize fishing activities that would otherwise be prohibited. At the June 2012 Pacific Fishery Management Council (Council) meeting in San Mateo, CA, the Council considered applications for three EFPs from: (1) Steven Fosmark; (2) the San Francisco Community Fishing Association and Dan Platt; and (3) the Central Coast Sustainable Groundfish Association and their collaborators. An opportunity for public testimony was provided during the Council meeting. For more details on these EFP applications and to view copies of the applications, see the Pacific Council's Web site at www.pcouncil.org and browse the June 2012 Briefing Book. The Council recommended that NMFS consider issuing the following EFPs, and that those EFPs be issued for 2 years. The 2-year duration is intended coincide with the 2013-2014 biennial harvest specifications and management measures process. Therefore, to reduce the administrative burden of issuing annual EFPs during the 2-year management cycle, NMFS is considering issuing the EFPs described below for a 2-year period. The EFPs issued for this 2-year period would expire no later than December 31, 2014, but could be terminated earlier under terms and conditions of the EFPs and other applicable laws.

Commercial Chilipepper EFP

Steven Fosmark submitted an application for a 2-year EFP. The primary purpose of the EFP is to test if a specific longline gear configuration can be used in the commercial fishery to target underutilized chilipepper rockfish, while keeping bycatch of overfished species low.

Commercial Yellowtail EFP

The San Francisco Community Fishing Association and Dan Platt submitted an application for a 2-year EFP. The primary purpose of the EFP is to test a commercial hook and line gear to target underutilized yellowtail rockfish, while keeping bycatch of overfished species low.

Collaborative Fishing Survey EFP

The Central Coast Sustainable Groundfish Association submitted a proposal for a 2-year EFP, along with their collaborators: The Nature Conservancy; Environmental Defense Fund; various local industry research partners; and various academic scientific advisors and partners. The primary purpose of the EFP is to ground-truth estimates of spatial distribution of overfished species within parts of the rockfish conservation area, an area closed to groundfish fishing to protect overfished species, in order to see if there are areas that may be fished with low impacts to overfished species.

Authority: 16 U.S.C. 1801 et seq.

Dated: January 7, 2013.
Lindsay Fullenkamp,
Acting Deputy Director, Office of Sustainable Fisheries, National Marine Fisheries Service.

[FR Doc. 2013-00355 Filed 1-9-13; 8:45 am]

BILLING CODE 3510-22-P